DEPARTMENT OF COMMERCE

National Oceanic and Atmospheric Administration

[RTID 0648-XE797]

Deepwater Horizon Natural Resource Damage Assessment Open Ocean Trustee Implementation Group Final Restoration Plan 4 and Environmental Assessment: Fish and Water Column Invertebrates and Sea Turtles and Finding of No Significant Impact

AGENCY: National Marine Fisheries Service (NMFS), National Oceanic and Atmospheric Administration (NOAA), Commerce.

ACTION: Notice of availability.

SUMMARY: This notice announces that the Deepwater Horizon (DWH) natural resource Trustees for the Open Ocean Trustee Implementation Group (Open Ocean TIG) have prepared and are making available to the public the Final Restoration Plan 4 and Environmental Assessment: Fish and Water Column Invertebrates (FWCI) and Sea Turtles (RP4/EA) and Finding of No Significant Impact (FONSI). The Final RP4/EA considers alternatives to help restore FWCI and sea turtles injured by the DWH oil spill. The Final RP4/EA evaluates a reasonable range of project alternatives under the Oil Pollution Act (OPA) and the OPA Natural Resource Damage Assessment regulations, and the National Environmental Policy Act (NEPA), and selects ten projects for funding and implementation. A no action alternative is also evaluated pursuant to NEPA.

ADDRESSES: Obtaining Documents: You may view and download the Final RP4/EA and FONSI at https://www.gulfspillrestoration.noaa.gov/restoration-areas/open-ocean. You may also request a flash drive containing the Final RP4/EA, FONSI, and a Fact Sheet (see FOR FURTHER INFORMATION CONTACT).

FOR FURTHER INFORMATION CONTACT: National Oceanic and Atmospheric Administration—Laurie Rounds, NOAA Restoration Center, (850) 378-1263, openocean.TIG@noaa.gov.

SUPPLEMENTARY INFORMATION:

Introduction

On April 20, 2010, the mobile offshore drilling unit Deepwater Horizon, which was drilling a well for BP Exploration and Production, Inc. (BP), experienced a significant explosion, fire and subsequent sinking in the Gulf of America (formerly, the Gulf of Mexico), resulting in the release of millions of barrels of oil and other discharges into the Gulf. Under the authority of the OPA, designated Federal and state Trustees, acting on behalf of the public, assessed the injuries to natural resources and prepared the Deepwater Horizon Oil Spill Final Programmatic Damage Assessment and Restoration Plan and Final Programmatic Environmental Impact Statement (Final PDARP/PEIS), and the Record of Decision for the Deepwater Horizon Oil Spill Final Programmatic Damage Assessment and Restoration Plan and Final Programmatic Environmental Impact Statement (ROD), which sets forth the governance structure and process for DWH restoration planning under the OPA Natural Resource Damage Assessments (NRDA) regulations. On April 4, 2016, the United States District Court for the Eastern District of Louisiana entered a Consent Decree resolving civil claims by the Trustees against BP.

The Open Ocean TIG, which is composed of the National Oceanic and Atmospheric Administration, the U.S. Department of the Interior, the U.S. Environmental Protection Agency, and the U.S. Department of Agriculture, selects and implements restoration projects under the Open Ocean TIG's management authority in accordance with the Consent Decree. The Final PDARP/PEIS, ROD, Consent Decree, and information on the DWH Trustees can be found at https://www.gulfspillrestoration.noaa.gov/restoration-planning/gulf-plan.

Background

On June 1, 2023, the Open Ocean TIG issued a notice of solicitation on the Gulf Spill Restoration website requesting project ideas for FWCI and Sea Turtles Restoration Types as described in the Final PDARP/PEIS. On June 25, 2024, the TIG announced on the Gulf Spill Restoration website that they reviewed project idea submissions and were initiating drafting of the RP4/EA which tiers from the Final PDARP/PEIS and would include a reasonable range of restoration project alternatives for the FWCI and Sea Turtle Restoration Types. On October 30, 2024, the Open Ocean TIG released the Draft RP4/EA for a 45-day public review period (89 FR 86321). To facilitate public understanding of the document, the Open Ocean TIG held webinars on November 14 and 20, 2024, during which public comments were solicited. The Open Ocean TIG accepted public comments through December 16, 2024. After the public review period closed, the Open Ocean TIG reviewed the comments received, prepared responses to those comments, finalized the plan, and prepared the FONSI.

Overview of the Open Ocean TIG Final RP4/EA

In the Final RP4/EA, the Open Ocean TIG analyzes a reasonable range of 12 project alternatives and, pursuant to the NEPA, a No Action alternative for each Restoration Type. Two of the alternatives are not preferred by the TIG at this time. The ten projects selected by the Open Ocean TIG for funding and implementation are listed below:

• Return `Em Right: Species and Area Expansion;

• Next Generation Fishing;

• Communication Networks and Mapping Tools to Reduce Fish Mortality;

• Reduction of Stressors to Fish and Water Column Invertebrates;

• Education and Stewardship Partnerships with Charter Anglers;

• Communication, Adaptive Management, Planning, and Integration;

• Sea Turtle Nesting Habitat Protection Expansion in Florida (Long Term Nesting Habitat Protection for Sea Turtles);

• Sea Turtle Bycatch Reduction;

• Sea Turtle Vessel Strike Reduction; and

• Sea Turtle Stranding Network and Emergency Response Enhancements.

The total estimated cost to implement the ten preferred alternatives is approximately $210,620,000. Funding to implement the alternatives selected by the Open Ocean TIG will come from the FWCI and Sea Turtles Restoration Types and Monitoring and Adaptive Management allocations. Additional restoration planning in the Open Ocean TIG will continue.

Administrative Record

The Administrative Record for the Final RP4/EA can be viewed electronically at https://www.doi.gov/deepwaterhorizon/adminrecord under the folder 6.5.2.2.4.

Authority

The authority for this action is the OPA of 1990 (33 U.S.C. 2701 et seq.), its implementing NRDA regulations found at 15 CFR part 990, and the NEPA of 1969 (42 U.S.C. 4321 et seq.).

Dated: June 9, 2025.
Sunny Snider,
Deputy Director, Office of Habitat Conservation, National Marine Fisheries Service.

[FR Doc. 2025-10709 Filed 6-11-25; 8:45 am]

BILLING CODE 3510-22-P